DEPARTMENT OF THE INTERIOR

National Park Service

[NPS-WASO-NAGPRA-NPS0039475; PPWOCRADN0-PCU00RP14.R50000]

Notice of Intended Disposition: United States Marine Corps, Marine Corps Base Hawaii Kaneohe Bay, Kaneohe Bay, HI

AGENCY: National Park Service, Interior.

ACTION: Notice.

SUMMARY: In accordance with the Native American Graves Protection and Repatriation Act (NAGPRA), the United States Marine Corps, Marine Corps Base Hawaii (MCBH) Kaneohe Bay intends to carry out the disposition of human remains removed from Federal or Tribal lands to the lineal descendants, Indian Tribe, or Native Hawaiian organization with priority for disposition in this notice.

DATES: Disposition of the human remains in this notice may occur on or after April 17, 2025. If no claim for disposition is received by March 18, 2026, the human remains in this notice will become unclaimed human remains.

ADDRESSES: June Cleghorn, Senior Cultural Resources Manager, Environmental Compliance and Protection Division, Marine Corps Base Hawaii Kaneohe Bay, Box 6300, Kaneohe Bay, HI 96863-3002, telephone (808) 496-7126, email june.cleghorn@usmc.mil.

SUPPLEMENTARY INFORMATION: This notice is published as part of the National Park Service's administrative responsibilities under NAGPRA. The determinations in this notice are the sole responsibility of MCBH, and additional information on the human remains in this notice, including the results of consultation, can be found in the related records. The National Park Service is not responsible for the identifications in this notice.

Abstract of Information Available

Based on the information available, at least 57 individuals have been reasonably identified. No associated funerary objects are present. MCBH recorded 57 discoveries of likely Native Hawaiian human skeletal remains (or iwi kupuna) at MCBH Kaneohe Bay in Honolulu County, Hawaii between 1999 and 2023. The discoveries of human skeletal remains were secondarily deposited during past construction activities (or due to natural occurrences, e.g. erosion due to flooding, storm surf, etc.) and were removed from those locations throughout MCBH Kaneohe Bay in Honolulu County, HI. Additional details can be found in the related record of consultation.

Determinations

MCBH has determined that:

• The human remains described in this notice represent the physical remains of at least 57 individuals of Native Hawaiian ancestry.

• The following Native Hawaiian organizations have priority for disposition of the human remains described above in this notice: Anuhea Diamond, Kaulamealani Diamond; Diamond `Ohana; Skye Razon-Olds, Manu Napoleon, Kaleleonalani Napoleon; Olds `Ohana; Emalia Keohokalole, Adrian Keohokalole; Keohokalole `Ohana; Na`u Kamali`i; Boyd `Ohana; Donna Ann Camvel; Paoa Kea Lono `Ohana; Cy Harris; Kekumano `Ohana; Terrilee Napua Kekoolani Raymond; Keko`olani `Ohana; Malia Newhouse, Ko`olauloa Hawaiian Civic Club; Clive Cabral; Temple of Lono; Office of Hawaiian Affairs; and the Oahu Island Burial Council.

Claims for Disposition

Written claims for disposition of the human remains in this notice must be sent to the appropriate official identified in this notice under ADDRESSES. If no claim for disposition is received by March 18, 2026, the human remains in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after April 17, 2025. If competing claims for disposition are received, MCBH must determine the most appropriate claimant prior to disposition. Requests for joint disposition of the human remains are considered a single request and not competing requests. MCBH is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04364 Filed 3-17-25; 8:45 am]

BILLING CODE 4312-52-P